NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on December 5-8, 2001, in Conference Room T-2B3, 11545 Rockville Pike, Rockville, Maryland. The date of this meeting was previously published in the Federal Register on Friday, November 17, 2000 (65 FR 69578).

Wednesday, December 5, 2001

8:30 a.m.-8:35 a.m.: Opening Remarks by the ACRS Chairman (Open)

The ACRS Chairman will make opening remarks regarding the conduct of the meeting.

8:35 a.m.-10:10 a.m.: Dresden and Quad Cities Core Power Uprate (Open/Closed)

The Committee will hear presentations by and hold discussions with representatives of the NRC staff and Exelon Generating Company regarding the resolution of the open issues associated with the core power uprate requests for Dresden Nuclear Power Station Units 2 and 3, and Quad Cities Nuclear Power Station Units 1 and 2, in particular the issue of the need for conducting large transient tests.

[Note: A portion of this session may be closed to discuss General Electric Nuclear Energy proprietary information applicable to this matter.]

10:30 a.m.-12:30 p.m.: Discussion of Topics for Meeting With the NRC Commissioners (Open)

The Committee will discuss topics scheduled for the ACRS meeting with the NRC Commissioners in the afternoon.

1:30 p.m.-3:30 p.m.: Meeting With the NRC Commissioners (Open)

The Committee will meet with the NRC Commissioners, Commissioners' Conference Room, One White Flint North, to discuss the following: Regulatory Challenges for Future Plant Designs, Reactor Oversight Process, ACRS Activities Associated with Power Uprates, and Status of ACRS Activities on License Renewal.

4 p.m.-5:30 p.m.: Risk-Informed 10 CFR Part 50 Pilot Program (Option 2) (Open)

The Committee will hear presentations by and hold discussions with representatives of the NRC staff regarding the proposed revisions to the special treatment requirements of 10 CFR Part 50 (Option 2), including proposed 10 CFR 50.69, industry guidance in NEI 00-04, and proposed Appendix T to 10 CFR part 50.

5:50 p.m.-7 p.m.: Discussion of Proposed ACRS Reports (Open)

The Committee will discuss proposed ACRS reports on matters considered during this meeting, as well as proposed ACRS reports on: Dresden and Quad Cities Core Power Uprate and Safety Research Program (tentative).

Thursday, December 6, 2001

8:30 a.m.-8:35 a.m.: Opening Remarks by the ACRS Chairman (Open)

The ACRS Chairman will make opening remarks regarding the conduct of the meeting.

8:35 a.m.-10 a.m.: NEI 97-06, “Steam Generator Program Guidelines” (Open)

The Committee will hear presentations by and hold discussions with representatives of the NRC staff and the Nuclear Energy Institute (NEI) regarding NEI 97-06 and the proposed technical specification change package.

10:15 a.m.-11:30 a.m.: Proposed Rulemaking for Risk-Informed Revisions to 10 CFR 50.44 (Open)

The Committee will hear presentations by and hold discussions with representatives of the NRC staff regarding the draft rule and associated regulatory analysis for risk-informed revisions to 10 CFR 50.44, “Standards for Combustible Gas Control System in Light-Water Cooled Power Reactors.”

2 p.m.-6 p.m.: ACRS/ACNW Office Retreat (Open)

The Committee will meet with the ACRS technical and operational staffs to discuss issues arising from the ACRS/ACNW Office retreat held on September 19-21, 2001.

6:15 p.m.-7:30 p.m.: Discussion of Proposed ACRS Reports (Open)

The committee will discuss proposed ACRS reports.

Friday, December 7, 2001.

8:30 a.m.-8:35 a.m.: Opening Remarks by the ACRS Chairman (Open)

The ACRS Chairman will make opening remarks regarding the conduct of the meeting.

8:35 a.m.-9:30 a.m.: Subcommittee Reports (Open)

The Committee will hear reports by: The Chairman of the Thermal-Hydraulic Phenomena Subcommittee on matters discussed at the November 28, 2001 meeting; the Chairman of the Joint Meeting of the ACRS Subcommittees on Materials and Metallurgy, Thermal-Hydraulic Phenomena, and Reliability and Probabilistic Risk Assessment on matters discussed on November 15, 2001; the Co-Chairman of the ACRS/ACNW Joint Subcommittee on matters discussed at the November 14, 2001 meeting; and the Chairman of the Reactor Fuels Subcommittee on matters discussed at the November 16, 2001 meeting.

9:50 a.m.-10:50 a.m.: Future ACRS Activities/Report of the Planning and Procedures Subcommittee (Open)

The Committee will discuss the recommendations of the Planning and Procedures Subcommittee regarding items proposed for consideration by the full Committee during future meetings. Also, it will hear a report of the Planning and Procedures Subcommittee on matters related to the conduct of ACRS business, and organizational and personnel matters relating to the ACRS.

10:50 a.m.-11:10 a.m.: Reconciliation of ACRS Comments and Recommendations (Open)

The Committee will discuss the responses from the NRC Executive Director for Operations (EDO) to comments and recommendations included in recent ACRS reports and letters. The EDO responses are expected to be made available to the Committee prior to the meeting.

11:10 a.m.-11:40 a.m.: Election of ACRS Officers (Open)

The Committee will elect Chairman and Vice Chairman for the ACRS and Member-at-Large for the Planning and Procedures Subcommittee for CY 2002.

12:45 p.m.-7 p.m.: Discussion of Proposed ACRS Reports (Open)

The Committee will discuss proposed ACRS reports.

Saturday, December 8, 2001

8:30 a.m.-12:30 p.m.: Discussion of Proposed ACRS Reports (Open)

The Committee will continue its discussion of proposed ACRS reports.

12:30 p.m.-1 p.m.: Miscellaneous (Open)

The Committee will discuss matters related to the conduct of Committee activities and matters and specific issues that were not completed during previous meetings, as time and availability of information permit.

Procedures for the conduct of and participation in ACRS meetings were published in the Federal Register on October 3, 2001 (66 FR 50462). In accordance with those procedures, oral or written views may be presented by members of the public, including representatives of the nuclear industry. Electronic recordings will be permitted only during the open portions of the meeting and questions may be asked only by members of the Committee, its consultants, and staff. Persons desiring to make oral statements should notify Dr. Sher Bahadur, ACRS, five days before the meeting, if possible, so that appropriate arrangements can be made to allow necessary time during the meeting for such statements. Use of still, motion picture, and television cameras during the meeting may be limited to selected portions of the meeting as determined by the Chairman. Information regarding the time to be set aside for this purpose may be obtained by contacting Dr. Sher Bahadur prior to the meeting. In view of the possibility that the schedule for ACRS meetings may be adjusted by the Chairman as necessary to facilitate the conduct of the meeting, persons planning to attend should check with Dr. Sher Bahadur if such rescheduling would result in major inconvenience.

In accordance with subsection 10(d) P.L. 92-463, I have determined that it is necessary to close a portion of this meeting noted above to discuss proprietary information per 5 U.S.C. 552b(c)(4).

Further information regarding topics to be discussed, whether the meeting has been canceled or rescheduled, the Chairman's ruling on requests for the opportunity to present oral statements, and the time allotted therefor can be obtained by contacting Dr. Sher Bahadur (telephone 301-415-0138), between 7:30 a.m. and 4:15 p.m., EST.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment and facilities that they use to establish the videoteleconferencing link. The availability of videoteleconferencing services is not guaranteed.

The ACRS meeting dates for Calendar Year 2002 are provided below:

ACRS meeting No. | Meeting dates
| January 2002—No meeting.
489 | February 7-9, 2002.
490 | March 7-9, 2002.
491 | April 11-13, 2002.
492 | May 2-4, 2002.
493 | June 5-7, 2002.
494 | July 10-12, 2002.
| August 2002—No meeting.
495 | September 12-14, 2002.
496 | October 10-12, 2002.
497 | November 7-9, 2002.
498 | December 5-7, 2002.

Dated: November 19, 2001.
Andrew L. Bates,
Advisory Committee Management Officer.

[FR Doc. 01-29365 Filed 11-23-01; 8:45 am]

BILLING CODE 7590-01-P